DEPARTMENT OF THE TREASURY

Submission for OMB Review; Comment Request

September 6, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 12, 2001 to be assured of consideration.

Departmental Offices/Community Development Financial Institutions Fund

OMB Number: 1559-0005.

Form Number: CDFI-0002.

Type of Review: Reinstatement.

Title: Bank Enterprise Award (BEA) Program Application and Final Report.

Description: The CDFI Fund implements a Bank Enterprise Award Program that provides incentives to insured depository institutions to increase their support of CDFIs and their activities in economically distressed communities.

Respondents: Business or other for-profit.

Estimated Number of Recordkeepers: 200.

Estimated Burden Hours Per Recordkeeper:

Application—10 hours.

Final Report—7 hours.

Frequency of Response: On occasion.

Estimated Total Recordkeeping Burden: 3,400 hours.

OMB Number: 1559-0007.

Form Number: CDFI-0003.

Type of Review: Reinstatement.

Title: Presidential Awards for Excellence in Microenterprise Development.

Description: The Community Development Financial Institutions (CDFI) Fund implements the Presidential Awards of Excellence in Microenterprise Development Program to recognize outstanding microenterprise development and support organizations and to advance an understanding of “best practices in the field of microenterprise development and bring wider attention to its importance.

Respondents: Business or other for-profit.

Estimated Number of Respondents/Recordkeepers: 80.

Estimated Burden Hours Per Respondent/Recordkeeper: 35 hours.

Frequency of Response: Annually.

Estimated Total Recordkeeping Burden: 2,800 hours.

OMB Number: 1559-0008.

Form Number: CDFI-0014.

Type of Review: Reinstatement.

Title: Bank Enterprise Award (BEA) Program Annual Survey.

Description: The CDFI Fund's BEA Program helps to promote economic revitalization and community development through an incentive system for insured depository institutions to, among other things, increase their lending to and investment in CDFIs by rewarding participating institutions with awards.

Respondents: Business or other for-profit.

Estimated Number of Recordkeepers: 180.

Estimated Burden Hours Per Recordkeeper: 30 minutes.

Frequency of Response: Annually.

Estimated Total Recordkeeping Burden: 90 hours.

Clearance Officer: Lois K. Holland, (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports, Management Officer.

[FR Doc. 01-22859 Filed 9-11-01; 8:45 am]

BILLING CODE 4810-25-P